DEPARTMENT OF ENERGY

Federal Energy Regulatory Commission

[Docket No. EL03-40-000]

Wisconsin Public Service Corporation, Complainant, v. Midwest Independent Transmission System Operator, Inc., Respondent; Notice of Filing

January 15, 2003.

Take notice that on January 13, 2003, Wisconsin Public Service Corporation (WPS) tendered for filing a complaint against the Midwest Independent Transmission System Operator, Inc. (MISO).

The complaint requests that the Commission order MISO to merge two transmission service requests as a complete path from source to sink and to allow WPS to reassign the receipt point for this transmission path to an alternate receipt point.

WPS states that copies of the filing were served on MISO.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before the comment date. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866)208-3676, or for TTY, contact (202)502-8659. The answer to the complaint, comments, protests and interventions may be filed electronically via the Internet in lieu of paper; see 18 CFR 385.2001(a)(1)(iii) and the instructions on the Commission's Web site under the “e-Filing” link. The Commission strongly encourages electronic filings.

Comment Date: January 27, 2003.

Magalie R. Salas,
Secretary.

[FR Doc. 03-1817 Filed 1-24-03; 8:45 am]

BILLING CODE 6717-01-P